DEPARTMENT OF THE INTERIOR

Bureau of Indian Affairs

Class III Gaming Procedures and Tribal Revenue Allocation Plans: Submission to the Office of Management and Budget

AGENCY: Bureau of Indian Affairs, Interior.

ACTION: Notice.

SUMMARY: In compliance with the Paperwork Reduction Act of 1995, the Bureau of Indian Affairs (BIA) is submitting two information collection requests for review and renewal by the Office of Information and Regulatory Affairs (OIRA), Office of Management and Budget (OMB). The two collections are: Class III Gaming Procedures, 1076-0149, and Tribal Revenue Allocation Plans, 1076-0152.

DATES: Submit your comments and suggestions on or before August 4, 2006 to be assured of consideration.

ADDRESSES: Written comments should be sent directly to the Office of Management and Budget, Office of Information and Regulatory Affairs, Attention: Desk Officer for the Department of the Interior, either by facsimile at (202) 395-6566 or by e-mail at OIRA_DOCKET@omb.eop.gov. Send a copy of your comments to: Mr. George Skibine, Bureau of Indian Affairs, Office of Indian Gaming Management, Mail Stop 3657-MIB, 1849 C Street, NW., Washington, DC 20240.

FOR FURTHER INFORMATION CONTACT: Interested persons may obtain copies of the information collection requests without charge by contacting Mr. George Skibine at (202) 219-4066 or facsimile number (202) 273-3153.

SUPPLEMENTARY INFORMATION: The Paperwork Reduction Act of 1995 provides an opportunity for interested parties to comment on proposed information collection requests. We did not receive any comments during the request for comments period published January 24, 2006 (67 FR 3883). The Bureau of Indian Affairs, Office of Indian Gaming Management is proceeding with requesting an information collection clearance from OMB. Each request contains (1) type of review, (2) title, (3) summary of the collection, (4) respondents, (5) frequency of collection, (6) reporting and record keeping requirements.

Please note that we will not sponsor nor conduct, and you need not respond to, a request for information unless we display the OMB control number and the expiration date.

Class III Gaming Procedures

Type of review: Renewal.

Title: Class III Gaming Procedures, 25 CFR Part 291.

Summary: The collection of information will ensure that the provisions of the Indian Gaming Regulatory Act, the relevant provisions of State laws, Federal law and the trust obligations of the United States are met when federally recognized tribes submit class III procedures for review and approval by the Secretary of the Interior. Sections 291.4, 291.10, 291.12 and 291.15 of 25 CFR part 291 Class III Gaming Procedures, specifies the information collection requirement. An Indian tribe must ask the Secretary to issue class III gaming procedures. The information to be collected includes: name of Tribe and State; tribal documents, State documents, regulatory schemes, the proposed procedures and other documents deemed necessary. Collection of this information is currently authorized under an approval by OMB (OMB Control Number 1076-0149). All information is collected when the tribe makes a request for class III gaming procedures. Annual reporting and record keeping burden for this collection of information is estimated to occur one time on an annual basis. The estimated number of annual requests is 12 tribes seeking class III gaming procedures. The estimated time to review instructions and complete each application is 320 hours. Thus, the total annual reporting and record keeping burden for this collection is estimated to be 3,840 hours.

Frequency of Collection: Annually.

Description of Respondents: Federally recognized tribes.

Total Respondents: 12.

Response Hours per Application: 320.

Total Annual Burden Hours: 3,840 hours.

Tribal Revenue Allocation Plans

Type of review: Renewal.

Title: Tribal Revenue Allocation Plans, 25 CFR part 290.

Summary: In order for Indian tribes to distribute net gaming revenues in the form of per capita payments, information is needed by the BIA to ensure that Tribal Revenue Allocation Plans include assurances that certain statutory requirements are met, a breakdown of the specific uses to which net gaming revenues will be allocated, eligibility requirements for participation, tax liability notification and the assurance of the protection and preservation of the per capita share of minors and legal incompetents. Sections 290.12, 290.17, 290.24 and 290.26 of 25 CFR part 290, Tribal Revenue Allocation Plans, specifies the information collection requirement. An Indian tribe must ask the Secretary to approve a Tribal Revenue Allocation Plan. The information to be collected includes: name of Tribe, tribal documents, the allocation plan and other documents deemed necessary. Collection of this information is currently authorized under an approval by OMB (OMB Control Number 1076-0152). All information is collected when the tribe submits a Tribal Revenue Allocation Plan. Annual reporting and record keeping burden for this collection of information is estimated to average between 75-100 hours for approximately 20 respondents, including the time for reviewing instructions, researching existing data sources, gathering and maintaining the data needed, and completing and reviewing the collection of information. Thus, the total annual reporting and record keeping burden for this collection is estimated to be 1,500-2,000 hours. We are using the higher estimate for purposes of estimating the public burden.

Frequency of Collection: Annually.

Description of Respondents: Federally recognized tribes.

Total Respondents: 20.

Annual Response Hours: 100.

Total Annual Burden Hours: 2,000 hours.

Request for Comments

The Bureau of Indian Affairs solicits comments in order to:

(1) Evaluate whether the proposed collection of information is necessary for the proper performance of the functions of the bureau, including whether the information will have practical utility;

(2) Evaluate the bureau's estimate of the burden of the proposed collection of information, including the validity of the methodology and assumptions used;

(3) Enhance the quality, utility and clarity of the information to be collected; and

(4) Minimize the burden of the collection of the information on those who are to respond.

Please note that the Office of Management and Budget has 60 days after receipt in which to make a decision but may make a decision after 30 days. Therefore, early submissions of comments have a better chance of receiving full consideration.

Dated: June 14, 2006.
Michael D. Olsen,
Acting Principal Deputy Assistant Secretary—Indian Affairs.

[FR Doc. E6-10448 Filed 7-3-06; 8:45 am]

BILLING CODE 4310-4N-P